DEPARTMENT OF HOMELAND SECURITY

Citizenship and Immigration Services Bureau

[CIS No. 2332-04]

RIN 1615-ZA09

Extension of Nicaragua for Temporary Protected Status; Correction

AGENCY: Citizenship and Immigration Services, Department of Homeland Security.

ACTION: Notice of correction.

SUMMARY: U.S. Citizenship and Immigration Services (USCIS) is correcting a notice that was published in the Federal Register on November 3, 2004 at 69 FR 64088 which announced the extension of the designation of Nicaragua for Temporary Protected Status (TPS). In the supplemental information to the notice, USCIS inadvertently misstated that only Form I-821 with Revision Date 7/30/04 will be accepted. However, the Form I-821 Instructions were revised on November 5, 2005 and are now consistent with the filing instructions in the aforementioned Federal Register notice. Therefore, USCIS is notifying affected nationals of Nicaragua (or aliens with no nationality who last habitually resided in Nicaragua) that Form I-821 with Revision Date 11/05/04 will be accepted until further notice, and Form I-821 with Revision Date 7/30/04 will be accepted through January 3, 2005. All applicants are required to follow the same filing requirements as listed in the notice at 69 FR 64088 regardless of the version of the Form I-821 submitted.

DATES: This correction is effective November 17, 2004.

FOR FURTHER INFORMATION CONTACT: Colleen Cook, Residence and Status Services, Office of Programs and Regulations Development, U.S. Citizenship and Immigration Services, Department of Homeland Security, 111 Massachusetts Ave., NW., 3rd floor, Washington, DC 20529, telephone (202) 514-4754.

SUPPLEMENTARY INFORMATION:

Need for Correction

As published in the Federal Register on November 3, 2004 (69 FR 64088), the notice contains an error that is in need of correction.

Correction of Publication

Accordingly, the publication on November 3, 2004 (69 FR 64088), of the notice that was the subject of FR Doc. 04-24607 is corrected as follows:

1. On page 64089, in the third column, beginning on the third line of the second paragraph, the sentences “Please note that Form I-821 has been revised and only the new form with Revision Date 7/30/04 will be accepted. Submissions of older versions of Form I-821 will be rejected.” is corrected to read: “Please note that Form I-821 has been revised and the new form with Revision Date 11/05/04 will be accepted until further notice. The prior version of Form I-821 with Revision Date 7/30/04 will be accepted through January 3, 2005.”

Dated: November 12, 2004.
Richard A. Sloan,
Director, Regulatory Management Division, U.S. Citizenship and Immigration Services.

[FR Doc. 04-25467 Filed 11-16-04; 8:45 am]

BILLING CODE 4410-10-P